GOVERNMENT PUBLISHING OFFICE

Congressionally Mandated Reports: OMB/GPO Guidance

AGENCY: U.S. Government Publishing Office.

ACTION: Notice: Federal agencies can register for congressionally mandated reports submission portal & begin submitting reports to GPO.

SUMMARY: The U.S. Government Publishing Office (GPO) has moved to the next phase of accepting submissions of congressionally mandated reports from Federal agencies during the month of October 2023. Agencies can now sign up for a submission portal account. Beginning on October 16th, agencies can start submitting their reports to GPO through their portal accounts. Sign up for a portal account: https://ask.gpo.gov/s/CMR. Agencies are now required by law to submit congressionally mandated reports to GPO. The reports will be published and made available to the public on GPO's online system, GovInfo https://www.govinfo.gov/, beginning December 2023. When fully deployed, this will be the first time congressionally mandated reports will be accessible to the public in one place. Under this new requirement, agencies will continue their current practice of submitting printed, signed copies of mandated reports directly to Congress and committees and subcommittees. All resources related to congressionally mandated reports for Federal agencies can be found at https://www.gpo.gov/congressionally-mandated-reports. For questions, please use the Congressionally Mandated Reports submission portal: https://ask.gpo.gov/s/CMR. Click the drop down arrow next to Ask a Question, and then select Agency User or Congressional User.

Hugh Nathanial Halpern,
Director, U.S. Government Publishing Office.

[FR Doc. 2023-22336 Filed 10-6-23; 8:45 am]

BILLING CODE 1520-01-P